DEPARTMENT OF HEALTH AND HUMAN SERVICES

Administration for Children and Families

Submission for OMB Review; Comment Request

Title: 1309 Head Start Facilities Construction, Purchase and Major Renovations.

OMB No.: 0970-0193.

Description: The Head Start Bureau is proposing to renew, without changes, the information collections activities for the regulations in 45 CFR part 1309. The part contains the administrative requirements applicable to Head Start and Early Head Start grantees, when applying for funding to purchase, renovate or construct Head Start program facilities. The regulations ensure that standard business practices are applied when acquiring real property and that federal interest is preserved in properties acquired with public funds. The regulations further ensure compliance with all other federal statues applicable to the expenditure of federal funds when acquiring real property.

Respondents: Head Start and Early Head Start programs are delegate agencies.

Annual Burden Estimates
Instrument | Number of respondents | Number of responses per respondent | Average burden hours per response | Total burden hours
CFR Part 1309 | 200 | 1 | 41 | 8200
Estimated Total Annual Burden Hours: 8200.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, Email: OIRA_SUBMISSION@OMB.EOP.GOV,

Attn: Desk Officer for the Administration for Children and Families.

Robert Sargis,
Reports Clearance Officer.

[FR Doc. 2012-13029 Filed 5-29-12; 8:45 am]

BILLING CODE 4184-01-P